Proclamation 7360 of October 10, 2000

Eleanor Roosevelt Day, 2000

By the President of the United States of America

A Proclamation

Eleanor Roosevelt was one of the most influential figures of the 20th century, and her life spanned some of the most dramatic and challenging events in modern history. Steadfast in her commitment to America, democracy, and a world that honored human rights, she told Americans across the Nation, “We are on trial to show what democracy means.” Through the Great Depression, two world wars, the Holocaust, the creation of the United Nations, the Cold War, and the civil rights movement, her singular integrity and clear moral vision helped forge a better life for people around the world.

Eleanor Roosevelt was our longest-serving First Lady, and her dedicated efforts as a political leader, humanitarian, social activist, and journalist have made her an icon to millions. During the 12 years of Franklin Delano Roosevelt's Administration, she traveled tirelessly around the country, listening to the American people's problems, concerns, joys, and fears. She saw firsthand the ravages that poverty, greed, ignorance, and bigotry wreaked on the lives of ordinary Americans. She advocated strongly for our Nation's disadvantaged—urging an end to child labor, pushing for the establishment of a minimum wage, speaking out for workers' rights, confronting racial discrimination in New Deal programs, and encouraging greater power and independence for women in the workplace.

But perhaps her greatest achievement would come in the years after her husband's death. A delegate to the General Assembly of the newly created United Nations from 1945 to 1951, Eleanor Roosevelt was elected Chairperson of the U.N.'s Human Rights Commission in 1946. She played a pivotal role in drafting the Universal Declaration of Human Rights, and its final language vividly reflects her humanitarian ideals and uncompromising commitment to the inherent worth of every human being. The first article of the Declaration, “All human beings are born free and equal in dignity and rights,” set the standard by which all future human rights charters would be judged.

Whether working for the United Nations, the NAACP, the Girl Scouts, the Presidential Commission on the Status of Women, or the National Conference of Christians and Jews, Eleanor Roosevelt devoted her boundless energy to creating a world defined by respect for and dedication to democratic values. She was a woman ahead of her time, and her achievements transcend her generation. As we seek to chart a steady course for America, democracy, and human rights in this new century, we need only look to her values, character, and accomplishments to provide us with an unfailing moral compass.

NOW, THEREFORE, I, WILLIAM J. CLINTON, President of the United States of America, by virtue of the authority vested in me by the Constitution and laws of the United States, do hereby proclaim October 11, 2000, the anniversary of her birthday, as Eleanor Roosevelt Day. I call upon government officials, educators, labor leaders, employers, diplomats, human rights activists, and citizens of the United States to observe this day with appropriate programs and activities.

IN WITNESS WHEREOF, I have hereunto set my hand this tenth day of October, in the year of our Lord two thousand, and of the Independence of the United States of America the two hundred and twenty-fifth.

wj

[FR Doc. 00-26539

Filed 10-12-00; 8:45 am]

Billing code 3195-01-P